GENERAL SERVICES ADMINISTRATION

48 CFR Part 504

GSAR Amendment 2004-04; GSAR Case 2004-G509 (Change 12)

RIN 3090-AI00

General Services Administration Acquisition Regulation; Access to the Federal Procurement Data System

AGENCY: Office of the Chief Acquisition Officer, General Services Administration (GSA).

ACTION: Interim rule with request for comments.

SUMMARY: The General Services Administration (GSA) is amending the General Services Administration Acquisition Regulation (GSAR) by adding coverage to specify the rate that will be charged to non-governmental entities in exchange for permitting them to establish a direct computer connection with the Federal Procurement Data System database.

DATES: Effective Date: December 28, 2004.

Comment Date: Interested parties should submit comments in writing on or before February 28, 2005, to be considered in the formulation of a final rule.

ADDRESSES: Submit comments, identified by GSAR Amendment 2004-04, GSAR case 2004-G509, by any of the following methods:

• Federal eRulemaking Portal: http://www.regulations.gov. Follow the instructions for submitting comments.

• E-mail: gsarcase.2004-G509@gsa.gov. Include GSAR Amendment 2004-04, GSAR case 2004-G509, in the subject line of the message.

• Mail: General Services Administration, Regulatory Secretariat (VIR), 1800 F Street, NW., Room 4035, ATTN: Laurieann Duarte, Washington, DC 20405.

Instructions: Please submit comments only and cite GSAR Amendment 2004-04, GSAR case 2004-G509, in all correspondence related to this case. All comments received will be posted without change to http://www.acqnet.gov/GSAM/gsamcomments.htm, including any personal information provided.

FOR FURTHER INFORMATION CONTACT: The Regulatory Secretariat, Room 4035, GS Building, Washington, DC, 20405, (202) 501-4755, for information pertaining to status or publication schedules. For clarification of content, contact Mr. Jerry Olson at (202) 501-3221. Please cite GSAR Amendment 2004-04, GSAR case 2004-G509.

SUPPLEMENTARY INFORMATION:

A. Background

The Federal Procurement Data System (FPDS) is the primary database of the Federal Government for information relating to Federal procurement. GSA, in keeping with its vision of providing greater transparency into Government contracting, announced that it will pay the costs to provide three years of free access to the public to data in the FPDS and to provide for a reduced cost for a special direct web services connection to the database.

Following is a description of the methods the public will be able to use to get data from FPDS.

The public will have access to the FPDS data using several methods:

• A copy of data can be made available using FTP (file transfer protocol) from the FPDS web site.

• Prewritten queries (that can be customized to produce data for specified period and organizations) can be used that will produce reports.

• Ad hoc queries can be written by members of the public to produce reports on nearly any desired set of FPDS data.

• Direct web services connection can be established between a public computer and the FPDS computers to use FPDS as a data source.

The first three methods are free. This rule concerns the fee for the fourth.

This interim rule establishes the one-time hook-up fee that will be charged to individuals, companies, or organizations wishing direct web services access to the database. They will be required to pay a $2,500 fee to partially cover the cost of technical support, testing, and certification of direct integration to the FPDS web services. However, they will not be required to pay a fee for the data itself. Direct access to the database may be restricted to non-peak hours, depending on level of demand and FPDS's ability to service the demand without degradation of service to other users.

We expect only a few requests for the direct integration to the FPDS web services. We expect that nearly all of the public users will use the free data and report generation tools that will also be available. The public will use the same report generation tools as Federal employees to access the database. They will have access to the same data as Federal employees and they can generate the same reports as Federal employees, with minor exceptions. Certain data may be delayed and will not be available in real-time in order to guard against inappropriate release of data that could reveal pace of operations information.

GSA previously charged citizens a price for FPDS data, representing the costs incurred by GSA for providing the information.

This rule is not a significant regulatory action and, therefore, was not subject to review under Section 6(b) of Executive Order 12866, Regulatory Planning and Review, dated September 30, 1993. This interim rule is not a major rule under 5 U.S.C. 804.

B. Regulatory Flexibility Act

We certify that the amendments will not have a significant economic impact on a substantial number of small entities within the meaning of the Regulatory Flexibility Act, 5 U.S.C. 601, et seq., because we do not expect a substantial number of small entities to request direct web services access to the FPDS database. Nearly all public access to the FPDS database is expected to occur via the free report generation tools and free data provided by GSA. GSA will consider comments from small entities concerning the affected GSAR Subpart 504.6 in accordance with 5 U.S.C. 610. Interested parties must submit such comments separately and should cite GSAR case 2004-G509, in correspondence.

C. Paperwork Reduction Act

The Paperwork Reduction Act does not apply because this interim rule does not contain any information collection requirements that require the approval of the Office of Management and Budget (OMB) under 44 U.S.C. 3501, et seq.

D. Determination to Issue an Interim Rule

A determination has been made under the authority of the Administrator of General Services that compelling reasons exist to promulgate this interim rule without prior opportunity for public comment. This rule is necessary to establish the rate of payment for the connection fee for direct web access to the FPDS database. Access is planned to begin immediately after December 31, 2004, and there is insufficient time to obtain public comments prior to that date. Comments received in response to the publication of this interim rule will be considered in formulating the final rule.

List of Subjects in 48 CFR Part 504

Government procurement.

Dated: December 20, 2004
David A. Drabkin,
Senior Procurement Executive,General Services Administration.

Therefore, GSA amends 48 CFR part 504 as set forth below:

PART 504—ADMINISTRATIVE MATTERS

1. The authority citation for 48 CFR part 504 continues to read as follows:

Authority: 40 U.S.C. 121(c).

2. Add Subpart 504.6, consisting of section 504.602-71, to read as follows:

Subpart 504.6—Contract Reporting

Sec.

504.602-71 Federal Procurement Data System-Public Access to Data.

504.602-71 Federal Procurement Data System-Public Access to Data.

(a) The FPDS database. The General Services Administration awarded a contract for creation and operation of the Federal Procurement Data System (FPDS) database. That database includes information reported by departments and agencies as required by Federal Acquisition Regulation (FAR) Subpart 4.6. One of the primary purposes of the FPDS database is to provide information on Government procurement to the public.

(b) Fee for direct hook-up. To the extent that a member of the public requests establishment of real-time integration of reporting services to run reports from another application, a one-time charge of $2,500 for the original integration must be paid by the requestor. This one-time charge covers the setup and certification required for an integrator to access the FPDS database and for technical assistance to help integrators use the web services. The fee will be paid to the FPDS contractor and credited to invoices submitted to GSA by the FPDS contractor.

[FR Doc. 04-28280 Filed 12-27-04; 8:45 am]

BILLING CODE 6820-61-S